DEPARTMENT OF ENERGY

Federal Energy Regulatory Commission

[Project No. 2188-263]

Northwestern Corporation; Notice of Application Accepted for Filing and Soliciting Comments, Motions To Intervene, and Protests

Take notice that the following hydroelectric application has been filed with the Commission and is available for public inspection:

a. Application Type: Temporary Variance of Article 420.

b. Project No: 2188-263.

c. Date Filed: January 7, 2022.

d. Applicant: Northwestern Corporation (licensee).

e. Name of Project: Missouri-Madison Hydroelectric Project.

f. Location: The project consists of nine hydroelectric developments located on the Madison and Missouri Rivers in Gallatin, Madison, Lewis and Clark, and Cascade counties, Montana.

g. Filed Pursuant to: Federal Power Act, 16 U.S.C. 791a-825r.

h. Applicant Contact: Mary Gail Sullivan, Director, Environmental and Lands; Northwestern Corporation; 11 East Park Street; Butte, Montana 59701; (406) 497-3382; marygail.sullivan@northwestern.com.

i. FERC Contact: Joy Kurtz, (202) 502-6760, Joy.Kurtz@ferc.gov.

j. Deadline for filing comments, motions to intervene, and protests: February 10, 2022.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include the docket number P-2188-263. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: The licensee requests a temporary variance from the its River Flow Restoration Plan (Plan), required by Article 420 of the project license and approved by the Commission on February 7, 2014. The proposed variance would occur from March 1, 2022 to November 30, 2022 in support of the initial phase of a spill gate replacement project at Morony Dam. The replacement project in its entirety entails replacing the dam's nine radial spill gates with vertical slide gates over a three-year period. During the proposed variance period, the licensee would replace spill gates 4-7, and would therefore be unable to use them to restore flows during full plant trips, as required by the Plan. The licensee proposes to use a combination of spill gates 1-3 for flow restoration during any full plant trips while spill gates 4-7 are out of service. Consistent with the Plan, during the variance period, the licensee will provide a 7-minute long warning siren to alert the public that the spill gates are opening and to allow the public time to relocate to a safe location.

l. Locations of the Application: This filing may be viewed on the Commission's website at http://www.ferc.gov using the “eLibrary” link. Enter the docket number excluding the last three digits in the docket number field to access the document. You may also register online at http://www.ferc.gov/docs-filing/esubscription.asp to be notified via email of new filings and issuances related to this or other pending projects. At this time, the Commission has suspended access to the Commission's Public Reference Room, due to the proclamation declaring a National Emergency concerning the Novel Coronavirus Disease (COVID-19), issued by the President on March 13, 2020. For assistance, call 1-866-208-3676 or email FERCOnlineSupport@ferc.gov, for TTY, call (202) 502-8659. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: January 21, 2022.
Kimberly D. Bose,
Secretary.

[FR Doc. 2022-01683 Filed 1-27-22; 8:45 am]

BILLING CODE 6717-01-P